DEPARTMENT OF COMMERCE

International Trade Administration

[A-549-822]

Certain Frozen Warmwater Shrimp From Thailand: Rescission of Antidumping Duty Administrative Review; 2016-2017

AGENCY: Enforcement and Compliance, International Trade Administration, Department of Commerce.

SUMMARY: The Department of Commerce (the Department) is rescinding the administrative review of the antidumping duty order on frozen warmwater shrimp from Thailand for the period February 1, 2016, through January 31, 2017, based on the timely withdrawal of all requests for review.

DATES: Applicable August 11, 2017.

FOR FURTHER INFORMATION CONTACT: Alice Maldonado or David Crespo, AD/CVD Operations, Office II, Enforcement and Compliance, International Trade Administration, U.S. Department of Commerce, 1401 Constitution Avenue NW., Washington, DC 20230; telephone: (202) 482-4682 or (202) 482-3693, respectively.

SUPPLEMENTARY INFORMATION:

Background

On February 8, 2017, the Department published in the Federal Register a notice of opportunity to request an administrative review of the antidumping duty order on frozen warmwater shrimp from Thailand for the period February 1, 2016, through January 31, 2017.¹ In February 2017, the Department received timely requests, in accordance with section 751(a) of the Tariff Act of 1930, as amended (the Act), to conduct an administrative review of this antidumping duty order from the Ad Hoc Shrimp Trade Action Committee (the petitioner), the American Shrimp Processors Association (ASPA), and certain individual companies.² Based upon these requests, on April 10, 2017, in accordance with section 751(a) of the Act, the Department published in the Federal Register a notice of initiation listing 159 companies for which the Department received timely requests for review.³

¹ See Antidumping or Countervailing Duty Order, Finding, or Suspended Investigation; Opportunity to Request Administrative Review, 82 FR 9709 (February 8, 2017).

² See Good Luck Product Co., Ltd.'s (Good Luck's) February 16, 2017, Request for Administrative Review; Petitioner's February 23, 2017; Request for Administrative Review; May Ao Foods Co., Ltd./A Foods 1991 Co., Ltd.'s (collectively, Mayao's), Ongkorn Cold Storage Co., Ltd./Thai-Ger Marine Co., Ltd.'s (Ongkorn/Thai-Ger's), Thai Royal Frozen Food Co., Ltd.'s (Thai Royal's), Thai Union Frozen Products Public Co. Ltd.'s/Thai Union Seafood Co., Ltd.'s/Pakfood Public Company Limited/Asia Pacific (Thailand) Co., Ltd/Chaophraya Cold Storage Co. Ltd./Okeanos Co. Ltd./Okeanos Food Co. Ltd./Takzin Samut Co. Ltd.'s (collectively, Thai Union/Pakfood's), and Xian-Ning Seafood Co., Ltd.'s (Xian-Ning's) February 24, 2017, Requests for Administrative Review; and ASPA's and Charoen Pokphand Foods Public Company Limited's (CP Foods') February 28, 2017, Requests for Administrative Review.

³ See Initiation of Antidumping and Countervailing Duty Administrative Reviews, 82 FR 17188 (April 10, 2017).

In July 2017, all parties timely withdrew their requests for an administrative review.⁴

⁴ See CP Food's July 6, 2017, Withdrawal of Administrative Review Request; ASPA's, Petitioner's, Mayao's, Thai Union/Pakfood's, Ongkorn/Thai-Ger's, Thai Royal's, and Xian-Ning's July 7, 2017, Withdrawals of Administrative Review Request, and Good Luck's July 10, 2017, Withdrawal of Administrative Review Request.

Rescission of Review

Pursuant to 19 CFR 351.213(d)(1), the Secretary will rescind an administrative review, in whole or in part, if a party who requested the review withdraws the request within 90 days of the date of publication of notice of initiation of the requested review. As noted above, all parties withdrew their requests for review by the 90-day deadline. Accordingly, we are rescinding the administrative review of the antidumping duty order on frozen warmwater shrimp from Thailand covering the period February 1, 2016, through January 31, 2017.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This notice is issued and published in accordance with section 751 of the Act and 19 CFR 351.213(d)(4).

Dated: August 7, 2017.
James Maeder,
Senior Director performing the duties of Deputy Assistant Secretary for Antidumping and Countervailing Duty Operations.

[FR Doc. 2017-16992 Filed 8-10-17; 8:45 am]

BILLING CODE 3510-DS-P